DEPARTMENT OF COMMERCE

Bureau of Industry and Security

15 CFR Parts 734, 740, 742, 744, 746, and 774

[Docket No. 241030-0286]

RIN 0694-XC109

Public Briefing on Revisions to Space-Related Export Controls Under Export Administration Regulations and International Traffic in Arms Regulations

AGENCY: Bureau of Industry and Security, U.S. Department of Commerce.

ACTION: Notification of public briefing on regulatory actions.

SUMMARY: On October 23, 2024, the Bureau of Industry and Security (BIS) published in the Federal Register related rules: a final rule, “Export Administration Regulations: Removal of License Requirements for Certain Spacecraft and Related Items for Australia, Canada, and the United Kingdom,” and an interim final rule, “Export Administration Regulations: Revisions to Space-Related Export Controls.” This document announces that, on November 6, 2024, BIS will host a public briefing on these rules. This document also provides details on the procedures for participating in the public briefing. Elsewhere in this issue of the Federal Register, BIS is publishing notification of the public briefing on related proposed rulemaking.

DATES:

Public briefing: The public briefing will be held on November 6, 2024. The public briefing will begin at 1 p.m. Eastern Standard Time (EST) and conclude at 3 p.m. EST.

Deadline to register: Register no later than November 1, 2024, to attend in person. Register by November 5, 2024, for virtual participation.

Deadline for submitting questions for the public briefing: Questions for the briefing must be received no later than 5 p.m. EST, November 4, 2024.

ADDRESSES:

In-Person: The public briefing will be held at the Commerce Research Library at the U.S. Department of Commerce, 1401 Constitution Avenue NW, Washington, DC 20230. Register at: space.commerce.gov/export24. In-person attendance is limited to the capacity of the room.

Virtual: To attend this event virtually, register at space.commerce.gov/export24.

Submitting questions: Submit questions in writing through the registration links at space.commerce.gov/export24.

Recordkeeping: A summary of the briefing and Q&A will be posted for the record at space.commerce.gov/export24 and at regulations.gov.

FOR FURTHER INFORMATION CONTACT: For questions, contact Joseph A. Cristofaro, Director, Sensors, Aerospace and Marine Division, Office of National Security Controls, Bureau of Industry and Security, U.S. Department of Commerce, at (202) 482-2440 or by email: Joseph.Cristofaro@bis.doc.gov.

SUPPLEMENTARY INFORMATION:

Background

On October 23, 2024, BIS published the final rule “Export Administration Regulations: Removal of License Requirements for Certain Spacecraft and Related Items for Australia, Canada, and the United Kingdom” (89 FR 84766), which amended the Export Administration Regulations (EAR) (15 CFR 730 through 774) by removing controls for certain spacecraft and related items for exports and reexports to Australia, Canada, and the United Kingdom. These spacecraft and related items involve remote sensing or space-based logistics, assembly, or servicing. Taking into account the close relations with these three allied countries, including in space collaboration, as well as their inclusion in the National Technology and Industrial Base, this final rule removed the license requirement for the export, reexport and transfer (in-country) to these countries for the specified spacecraft and related items.

On the same day, BIS published the interim final rule “Export Administration Regulations: Revisions to Space-Related Export Controls” (89 FR 84770), which made changes to controls for spacecraft and related items under the EAR. This interim final rule reduced license requirements on less sensitive items to reflect the close relations with certain countries and to better facilitate space collaboration with those countries; and made refinements and clarifications to existing controls. These changes will better enable a globally competitive U.S. space industrial base while continuing to protect U.S. national security and foreign policy interests.

Public Briefing

On November 6, 2024, the Bureau of Industry and Security will host a public briefing to address the details of and answer questions on these related rules and the proposed rules discussed elsewhere in this issue of the Federal Register. The Department of Commerce, the State Department, and other U.S. Government agencies, as appropriate, will participate in the public briefing. The public briefing will be held on November 6, 2024, at the Commerce Research Library of the U.S. Department of Commerce, 1401 Constitution Avenue NW, Washington, DC 20230. The public briefing will begin at 1 p.m. EST and conclude at 3 p.m. EST.

Procedure for Requesting Participation

To participate in the public meeting virtually or in-person, register at: space.commerce.gov/export24 no later than November 1, 2024, to attend in person, or by November 5, 2024, for virtual participation. for virtual participation. Note that due to space limitations, the capacity for in-person participation is limited. Once in-person capacity is reached, additional registrants will be directed to participate virtually. This web page will also display the agenda of the public meeting and any other necessary information. This web page will also display the agenda of the public meeting and any other necessary information.

Procedure for Submitting Questions

In-person and virtual attendees are encouraged to submit written questions in advance of the briefing through the registration links at space.commerce.gov/export24. Questions must be received by 5 p.m. EST on Monday, November 4, 2024. Note that while public questions will also be accepted during the public briefing if there is available time, written questions will be prioritized.

All questions and answers from the public meeting will be posted at space.commerce.gov/export24 and at the Federal eRulemaking Portal at http://www.regulations.gov under the docket numbers BIS-2018-0029 or BIS 2024-0031. Related records are made accessible in accordance with the regulations published in 15 CFR part 4.

Special Accommodations

For any special accommodation needs, please send an email to: space.commerce@noaa.gov.

Matthew S. Borman,
Principal Deputy Assistant Secretary for Strategic Trade and Technology Security.

[FR Doc. 2024-25663 Filed 11-1-24; 8:45 am]

BILLING CODE 3510-33-P